DEPARTMENT OF HEALTH AND HUMAN SERVICES

Centers for Disease Control and Prevention

[30Day-15-0891]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

World Trade Center Health Program Enrollment, Appeals & Reimbursement (OMB No. 0920-0891, expires 12/31/2014)—[Revision]—National Institute for Occupational Safety and Health (NIOSH), Centers for Disease Control and Prevention (CDC).

Background and Brief Description

Title XXXIII of the PHS Act as amended establishes the WTC Health Program within HHS. The Program provides medical monitoring and treatment benefits to responders to the September 11, 2001, terrorist attacks in New York City, at the Pentagon, and in Shanksville, Pennsylvania, and to survivors of the terrorist attacks in New York City. Title XXXIII requires that various Program provisions be established by regulation, including eligibility criteria for responders and volunteers at the Pentagon and in Shanksville, Pennsylvania.

This submission will incorporate the World Trade Center Health Program Enrollment, Appeals & Reimbursement (0920-0891, expiration date 12/31/2014), and the World Trade Center Enrollment & Appeals—Pentagon & Shanksville (0920-1001, expiration date 12/31/2016) into one complete package which will be called the World Trade Center Health Program Enrollment, Appeals & Reimbursement. Upon OMB approval, 0920-1001 will be discontinued. The provisions in the interim final rule that contain data collection requirements are:

Section 88.5 Application process-status as a WTC responder. This section informs applicants who believe they meet the eligibility criteria for a WTC responder how to apply for enrollment in the WTC Health Program, and describes the types of documentation the WTC Program Administrator will accept as proof of eligibility. We expect that to receive approximately 4,500 applications per year. The burden table reflects the annualized total burden broken into the four separate applicant groups: We estimate that 45 Fire Department of New York (FDNY) responders (1% of applicants); 2,475 general responders (55%); 630 Pentagon/Shanksville responders (14%); and 1,350 survivors (30%) will submit applications. The burden estimates for these three different forms are: FDNY = 23 hours; general responders = 1,238 hours; Pentagon/Shanksville responders = 315 hours; survivors = 405 hours.

Section 88.11 Appeals regarding eligibility determination—responders and survivors. This section establishes the process for appeals regarding eligibility determinations. Of the 4,500 applications we expect to receive per year, we expect that 10% will fail due to ineligibility. We further assume that 10% of those individuals, or 45 respondents, will appeal the decision. The burden estimate is 23 hours.

Section 88.15 Appeals regarding treatment. This section establishes the timeline and process to appeal the Administrator's determinations regarding treatment decisions. HHS estimates that Program participants will request certification for 20,000 health conditions each year. Of those 20,000, we expect that .01 percent (200) will be denied certification by the WTC Program Administrator. We further expect that such a denial will be appealed 30 percent of the time. Of the projected 451,472 enrollees who will receive medical care, it is estimated that .05% percent (26) will appeal decisions of unnecessary treatment. We estimate that the appeals letter will take no more than 30 minutes.

Section 88.16 Reimbursement for travel expenses. This section established the process for members of the Nationwide Provider Network (NPN) who travel more than 250 miles to a nationwide network provider for medically necessary treatment may be provided necessary and reasonable transportation and other expenses. These individuals may submit a travel refund request form, which should take respondents 10 minutes. HHS expects no more than 10 claims per year.

The reporting and record keeping requirements contained in these regulations are used by NIOSH to carry out its responsibilities related to the implementation of the WTC Health Program as required by law. The burdens imposed have been reduced to the absolute minimum considered necessary to permit NIOSH to carry out the purpose of the legislation, i.e., to implement the WTC Health Program. This emergency data collection is warranted because it is essential that individuals who wish to be enrolled, apply to the WTC Health Program, appeal a determination made by the WTC Program Administrator, or submit a claim for reimbursement have the opportunity to do so as soon as the eligibility criteria are established with the publication of this interim final rule. The total annualized burden is 2,319. There are no costs to respondents other than their time.

Estimated Annualized Burden Hours
Type of respondent | Form name | Number of respondents | Number responses per respondent | Average burden per response (in hours)
FDNY Responder | World Trade Center Health Program FDNY Responder Eligibility Application | 45 | 1 | 30/60
General Responder | World Trade Center Health Program Responder Eligibility Application (Other than FDNY) | 2,475 | 1 | 30/60
Pentagon/Shanksville Responder | World Trade Center Health Program Pentagon/Shanksville Responder | 630 | 1 | 30/60
WTC Survivor | World Trade Center Health Program Survivor Eligibility Application | 1,350 | 1 | 30/60
Responder (FDNY and General Responder)/Survivor | Denial Letter and Appeal Notification—Eligibility | 45 | 1 | 30/60
Responder (FDNY and General Responder)/Survivor | Denial Letter and Appeal Notification—Health Conditions | 60 | 1 | 30/60
Responder (FDNY and General Responder)/Survivor | Denial Letter and Appeal Notification—Treatment | 26 | 1 | 30/60
Responder (FDNY and General Responder)/Survivor | WTC Health Program Medical Travel Refund Request | 10 | 1 | 10/60.

Leroy A. Richardson,
Chief, Information Collection Review Office, Office of Scientific Integrity, Office of the Associate Director for Science, Office of the Director, Centers for Disease Control and Prevention.

[FR Doc. 2014-29985 Filed 12-22-14; 8:45 am]

BILLING CODE 4163-18-P